DEPARTMENT OF AGRICULTURE

Natural Resources Conservation Service

Lower Payette River Ditch Diversion, Replacement Payette County, ID

AGENCY: Natural Resources Conservation Service, USDA.

ACTION: Notice of availability of Draft Environmental Assessment for review and comment.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that a draft environmental assessment has been prepared for a federally assisted proposed project by the Lower Payette Ditch Company, Payette County, Idaho.

DATES: Comments will be received for a 45 day period commencing with this date of publication.

FOR FURTHER INFORMATION CONTACT: Richard Sims, State Conservationist, Natural Resources Conservation Service, 9173 W. Barnes Dr., Suite C, Boise, Idaho, 83709-1574, telephone: (208) 378-5700.

SUPPLEMENTARY INFORMATION: The preliminary information of this federally assisted proposed action indicates that the proposed action will not cause significant local, regional, or national impacts on the environment. As a result of these findings, Richard Sims, State Conservationist, has determined that the preparation and review of an environmental assessment is needed for this project.

The objective of the Lower Payette Ditch Company proposed action is to provide efficient water delivery, operator safety and low maintenance, reliability, and adequate fish and recreational boater passage, while not adversely affecting the environment. The proposed project would replace the existing deteriorating diversion structure with an automated inflatable diversion dam. Alternatives evaluated to meet these objectives include: No Action, Upgrade Existing Diversion Dam with an Automated Inflatable Dam, Replace Existing Diversion Dam with a Push-Up Diversion Dam.

The Lower Payette Ditch Company invites participation and consultation of agencies and individuals that have special expertise, legal jurisdiction, or interest in the preparation of the draft environmental assessment. A limited number of copies of the EA are available to fill single copy requests at the above address. Basic data developed during the environmental assessment is on file and may be reviewed by contacting Richard Sims.

Further information on the proposed action or future public meetings may be obtained from Richard Sims, State Conservationist, at the above address or telephone (208) 378-5700.

Dated: December 23, 2004.
Richard Sims,
State Conservationist.

[FR Doc. 05-509 Filed 1-10-05; 8:45 am]

BILLING CODE 3410-16-P